ENVIRONMENTAL PROTECTION AGENCY

40 CFR Part 63

[EPA-HQ-OAR-2008-0708, FRL-9244-2]

RIN 2060-AP36

National Emission Standards for Hazardous Air Pollutants for Reciprocating Internal Combustion Engines

AGENCY: Environmental Protection Agency (EPA).

ACTION: Notice of public meeting and extension of public comment period.

SUMMARY: On December 7, 2010, EPA published a notice announcing reconsideration of the March 3, 2010, final national emission standards for hazardous air pollutants for reciprocating internal combustion engines and requesting public comment on one issue arising from the final rule. Specifically, EPA requested public comment on the decision to amend the limitations on operation of emergency stationary engines to allow emergency engines to operate for up to 15 hours per year as part of an emergency demand response program. In order to provide further opportunity for public participation, EPA has scheduled a public meeting in Research Triangle Park, North Carolina, for January 13, 2011. More information on the location is shown in SUPPLEMENTARY INFORMATION. In addition, EPA is extending the deadline for the written comments on issue under reconsideration to February 14, 2011.

DATES: Comments. Comments must be received on or before February 14, 2011.

Public Meeting. A public meeting will be held on January 13, 2011, beginning at 10:30 a.m. EST. If you would like to attend the meeting, please notify Ms. Pamela Garrett, EPA, Office of Air Quality Planning and Standards, Sector Policies and Programs Division, Energy Strategies Group (D243-01), Research Triangle Park, NC 27711, telephone number 919-541-7966, e-mail address: garrett.pamela@epa.gov (preferred method for registering) by 5 p.m. EST on January 10, 2011. If using e-mail, please provide the following information: name, affiliation, address, e-mail address, and telephone and fax numbers.

ADDRESSES: Submit your comments, identified by Docket ID No. EPA-HQ-OAR-2008-0708, by one of the following methods:

• http://www.regulations.gov: Follow the on-line instructions for submitting comments.

• E-mail: a-and-r-docket@epa.gov.

• Fax: (202) 566-1741.

• Mail: Air and Radiation Docket and Information Center, Environmental Protection Agency, Mailcode: 6102T, 1200 Pennsylvania Ave., NW., Washington, DC 20460. Please include a total of two copies. EPA requests a separate copy also be sent to the contact person identified below (see FOR FURTHER INFORMATION CONTACT).

• Hand Delivery: Air and Radiation Docket and Information Center, U.S. EPA, Room B102, 1301 Constitution Avenue, NW., Washington, DC. Such deliveries are only accepted during the Docket's normal hours of operation, and special arrangements should be made for deliveries of boxed information.

Instructions: Direct your comments to Docket ID No. EPA-HQ-OAR-2008-0708. EPA's policy is that all comments received will be included in the public docket without change and may be made available on-line at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Public Meeting: A public meeting will be held on January 13, 2010, in room C111A at EPA's campus located at 109 T.W. Alexander Drive in Research Triangle Park, NC. The meeting will begin at 10:30 a.m. EST.

Docket: All documents in the docket are listed in the http://www.regulations.gov index. EPA also relies on documents in Docket ID Nos. EPA-HQ-OAR-2002-0059, EPA-HQ-OAR-2005-0029, and EPA-HQ-OAR-2005-0030, and incorporated those dockets into the record for this action. Although listed in the index, some information is not publicly available, e.g., CBI or other information whose disclosure is restricted by statute. Certain other material, such as copyrighted material, will be publicly available only in hard copy. Publicly available docket materials are available either electronically in http://www.regulations.gov or in hard copy at the Air and Radiation Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Ms. Melanie King, Energy Strategies Group, Sector Policies and Programs Division (D243-01), Environmental Protection Agency, Research Triangle Park, North Carolina 27711; telephone number (919) 541-2469; facsimile number (919) 541-5450; e-mail address king.melanie@epa.gov.

SUPPLEMENTARY INFORMATION:

Public Meeting

The public meeting will provide interested parties the opportunity to present data, views, or arguments concerning the issue under reconsideration. Written statements and supporting information submitted during the comment period will be considered with the same weight as any oral comments and supporting information presented at the public meeting. Written comments must be postmarked by the last day of the comment period, which is February 14, 2011.

How can I get copies of the final rule, notice of reconsideration, and other related information?

The final rule was published on March 3, 2010, and the notice of reconsideration and request for public comment was published on December 7, 2010. Both actions can be accessed at the following Web site: http://www.epa.gov/ttn/atw/rice/ricepg.html. EPA has established the public docket for the rulemaking under docket ID No. EPA-HQ-OAR-2008-0708, and a copy of the final rule is available in the docket. Information on how to access the docket is presented above in the ADDRESSES section.

List of Subjects in 40 CFR Part 63

Administrative practice and procedure, Air pollution control, Hazardous substances, Intergovernmental relations.

Dated: December 20, 2010.
Gina McCarthy,
Assistant Administrator, Office of Air and Radiation.

[FR Doc. 2010-32454 Filed 12-22-10; 8:45 am]

BILLING CODE 6560-50-P